PRIVACY AND CIVIL LIBERTIES OVERSIGHT BOARD

[Notice-PCLOB-2024-01; Docket No. 2024-0002; Sequence No. 24]

Notice of a PCLOB Public Forum Examining the Role of Artificial Intelligence in Counterterrorism and Request for Public Comment

AGENCY: Privacy and Civil Liberties Oversight Board (PCLOB).

ACTION: Notice; request for public comment.

SUMMARY: The Board will be conducting a virtual public forum on July 11th, 2024 on the role of artificial intelligence (AI) in counterterrorism and related national security programs, and privacy and civil liberties issues associated with these uses of AI. More information about this online forum will be posted at www.pclob.gov as it becomes available. The Board seeks public comments in advance of the forum to help inform the discussion and future Board deliberations.

DATES: Public comments may be submitted any time prior to the closing of the docket at 11:59 p.m., Eastern Daylight Time (EDT) on Monday, July 1, 2024.

ADDRESSES: You may submit comments responsive to notice PCLOB-2024-01 via http://www.regulations.gov. Please search by Notice PCLOB-2024-01 and follow the on-line instructions for submitting comments. Responsive comments received generally will be posted without change to regulations.gov, including any personal and/or business confidential information provided. To confirm receipt of your comment(s), please check regulations.gov approximately two-to-three business days after submission to verify posting.

FOR FURTHER INFORMATION CONTACT: Alan Silverleib, Legislative and Public Affairs Officer, at 202-997-7719 or pao@pclob.gov.

SUPPLEMENTARY INFORMATION: The Board seeks public comments regarding topics it should explore in both its public forum and future oversight regarding the role of artificial intelligence in the federal government's counterterrorism efforts.

In both the forum and public comments, the Board seeks to cover questions including but not limited to the following: How is the federal government using AI in current efforts to combat terrorism and protect national security? How can or should AI be used for targeting, behavioral profiling, signals analysis, intelligence analysis, and prediction? What should effective performance metrics look like for the use of AI by the Intelligence Community (IC)? What standards does the IC use in evaluating whether IC tools are ready to deploy in operational contexts? Are those the right standards? What new threats are created by AI's use by adversaries or malicious actors? What privacy or civil liberties risks does the use of AI exacerbate? How might bias, non-transparency, or unreliability in AI systems harm individuals? How can that harm be detected or mitigated? What recourse do people or agencies have if AI malfunctions or is otherwise proven unreliable? Can IC analysts ever be sure that AI augmented analysis is correct?

PCLOB invites input from all stakeholders including members of the public, representing a variety of backgrounds and perspectives. If a comment is submitted on behalf of an organization, the individual respondent's role in the organization may also be provided on a voluntary basis.

Alan Silverleib,
PCLOB Legislative and Public Affairs Officer.

[FR Doc. 2024-11317 Filed 5-22-24; 8:45 am]

BILLING CODE 6820-B3-P